DEPARTMENT OF COMMERCE

International Trade Administration

[A-570-970]

Multilayered Wood Flooring From the People's Republic of China: Final Results of Antidumping Duty Administrative Review, Final Successor-in-Interest Determination, and Final Determination of No Shipments; 2018-2019

AGENCY: Enforcement and Compliance, International Trade Administration, Department of Commerce.

SUMMARY: The Department of Commerce (Commerce) determines that Jiangsu Senmao Bamboo and Wood Industry Co., Ltd. (Senmao) has not made sales of multilayered wood flooring (wood flooring) from the People's Republic of China (China) at prices below normal value during the period of review (POR) December 1, 2018, through November 30, 2019. In addition, Commerce determines that certain companies had no shipments during the POR and that Arte Mundi (Shanghai) Aesthetic Home Furnishings Co., Ltd. (Arte Mundi) is the successor-in-interest to Scholar Home (Shanghai) New Material Co., Ltd. (Scholar Home).

DATES: Applicable October 29, 2021.

FOR FURTHER INFORMATION CONTACT: Sergio Balbontin or Alexis Cherry, AD/CVD Operations, Office VIII, Enforcement and Compliance, International Trade Administration, U.S. Department of Commerce, 1401 Constitution Avenue NW, Washington, DC 20230; telephone: 202-482-6478 and 202-482-0607, respectively.

SUPPLEMENTARY INFORMATION:

Background

Commerce published the Preliminary Results of the administrative review on April 26, 2021.¹ For the events that occurred since Commerce published the Preliminary Results, see the Issues and Decision Memorandum.² Commerce conducted this review in accordance with section 751(a) of the Tariff Act of 1930, as amended (the Act). On July 26, 2021, we extended the deadline for these final results to October 22, 2021.³

¹ See Multilayered Wood Flooring from the People's Republic of China: Preliminary Results of the Antidumping Duty Administrative Review, Preliminary Determination of No Shipments, Preliminary Successor in-Interest Determination, and Rescission of Review, in Part; 2018-2019, 86 FR 22016 (April 26, 2021) (Preliminary Results), and accompanying Preliminary Decision Memorandum (PDM).

² See Memorandum, “Issues and Decision Memorandum: Antidumping Duty Administrative Review of Multilayered Wood Flooring from the People's Republic of China; 2018-2019,” dated concurrently with, and hereby adopted by, this notice (Issues and Decision Memorandum).

³ See Memorandum, “Multilayered Wood Flooring from the People's Republic of China: Extension of Deadline for Final Results of Antidumping Duty Administrative Review,” dated July 26, 2021.

Scope of the Order ⁴

⁴ See Multilayered Wood Flooring from the People's Republic of China: Notice of Amended Final Affirmative Determination of Sales at Less than Fair Value and Antidumping Duty Order, 76 FR 76690 (December 8, 2011), as amended in Multilayered Wood Flooring from the People's Republic of China: Amended Antidumping and Countervailing Duty Orders, 77 FR 5484 (February 3, 2012) (collectively, Order); see also Multilayered Wood Flooring from the People's Republic of China: Final Clarification of the Scope of the Antidumping and Countervailing Duty Orders, 82 FR 27799 (June 19, 2017).

The product covered by the Order is wood flooring from China. A full description of the scope of the Order is contained in the Issues and Decision Memorandum.

Analysis of Comments Received

All issues raised in the parties' briefs are addressed in the Issues and Decision Memorandum. A list of these issues is attached to this notice.⁵ The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://access.trade.gov/public/FRNoticesListLayout.aspx.

⁵ See Appendix I.

Changes From the Preliminary Results

Based on information received since the Preliminary Results, we determine that one additional company, Kemian Wood Industry (Kunshan) Co., Ltd., is eligible for a separate rate.⁶

⁶ See Issues and Decision Memorandum at the “Changes to the Preliminary Results” section.

Final Determination of No Shipments

In the Preliminary Results, Commerce determined that certain companies did not have shipments of subject merchandise during the POR. As we received no information to contradict our preliminary determination with respect to those companies, we continue to find that they made no shipments of subject merchandise to the United States during the POR. Accordingly, we will issue appropriate instructions that are consistent with our “automatic assessment” clarification for all of the companies listed in Appendix II.⁷

⁷ See Non-Market Economy Antidumping Proceedings: Assessment of Antidumping Duties, 76 FR 65694 (October 24, 2011) (Assessment Notice); see also “Assessment Rates” section, below.

Final Results of Successor-in-Interest Analysis

In the Preliminary Results, Commerce determined that Arte Mundi is the successor-in-interest to Scholar Home.⁸ No party commented on this issue and we have not received any information to contradict our preliminary finding. Therefore, we continue to find that Arte Mundi is the successor-in-interest to Scholar Home.

⁸ See Preliminary Results PDM at 9-10.

Separate Rates

We determine that Senmao and 35 additional companies that were not selected for individual review demonstrated their eligibility for separate rates.⁹ We continue to find that Dalian Qianqiu Wooden Product Co., Ltd., Fusong Jinlong Wooden Group Co., Ltd., Fusong Jinqiu Wooden Product Co., Ltd., and Fusong Qianqiu Wooden Products Co., Ltd. (collectively, Jinlong) is not eligible for a separate rate.¹⁰

⁹ See Appendix IV.

¹⁰ See Issues and Decision Memorandum at Comment 1.

Rate for Non-Examined Separate Rate Respondents

The statute and our regulations do not address the establishment of a rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}.” Accordingly, Commerce's usual practice in determining the rate for separate-rate respondents not selected for individual examination, has been to average the weighted-average dumping margins of the selected companies, excluding rates that are zero, de minimis, or based entirely on facts available.¹¹ However, when the weighted-average dumping margins established for all individually investigated respondents are zero, de minimis, or based entirely on facts available, section 735(c)(5)(B) of the Act permits Commerce to “use any reasonable method to establish the estimated all-others rate for exporters and producers not individually investigated, including averaging the estimated weighted-average dumping margins determined for the exporters and producers individually investigated.” ¹²

¹¹ See Longkou Haimeng Mach. Co. v. United States, 581 F. Supp. 2d 1344, 1357-60 (CIT 2008) (affirming Commerce's determination to assign a 4.22 percent dumping margin to the separate-rate respondents in a segment where the three mandatory respondents received dumping margins of 4.22 percent, 0.03 percent, and zero percent, respectively); see also Certain Kitchen Appliance Shelving and Racks from the People's Republic of China: Final Determination of Sales at Less Than Fair Value, 74 FR 36656, 36660 (July 24, 2009).

¹² See Albemarle Corp. v. United States, 821 F.3d 1345 (Fed. Cir. 2016).

For the final results of this review, we continue to determine the estimated dumping margin for Senmao to be zero. Thus, consistent with the Preliminary Results, we are assigning this rate to the non-examined respondents which qualify for a separate rate in this review through use of the expected method as a “reasonable method” for assigning a rate to the non-examined respondents.¹³

¹³ See Preliminary Results PDM at 15-16; see also Issues and Decision Memorandum at Comment 1; and section 735(c)(5)(B) of the Act.

The China-Wide Entity

Aside from the companies for which we made a final no-shipment determination, Commerce considers all other companies for which a review was requested, and which did not demonstrate separate rate eligibility, to be part of the China-wide entity.¹⁴

¹⁴ See Appendix III.

Final Results of Administrative Review

For the companies subject to this administrative review which established their eligibility for a separate rate, Commerce determines that the following weighted-average dumping margins exist for the period December 1, 2018, through November 30, 2019:

¹⁵ See Appendix IV.

Producer/exporter | Weighted- average dumping margin (percent)
Jiangsu Senmao Bamboo and Wood Industry Co., Ltd. | 0.00
Non-Selected Companies Under Review Receiving a Separate Rate ¹⁵ | 0.00

Disclosure

Normally, Commerce discloses to the parties in a proceeding the calculations performed in connection with a final results of review in accordance with 19 CFR 351.224(b). However, because Commerce made no adjustments to the margin calculation methodology used in the Preliminary Results, there are no calculations to disclose for the final results of review.

Assessment Rates

Pursuant to section 751(a)(2)(C) of the Act and 19 CFR 351.212(b), Commerce has determined, and U.S. Customs and Border Protection (CBP) shall assess, antidumping duties on all appropriate entries of subject merchandise in accordance with these final results of review. We intend to issue assessment instructions to CBP no earlier than 35 days after the date of publication of these final results. If a timely summons is filed at the U.S. Court of International Trade, the assessment instructions will direct CBP not to liquidate relevant entries until the time for parties to file a request for a statutory injunction has expired (i.e., within 90 days of publication).

For Senmao, and the respondents which were not selected for individual examination in this administrative review and which qualified for a separate rate, we will instruct CBP to liquidate the appropriate entries without regard to antidumping duties. For entries that were not reported in the U.S. sales databases submitted by Senmao, and for the companies that did not qualify for a separate rate in the administrative review, Commerce will instruct CBP to liquidate such entries at the China-wide rate (i.e., 85.13 percent).¹⁶

¹⁶ See Multilayered Wood Flooring from the People's Republic of China: Final Results of Antidumping Duty Administrative Review and Final Determination of No Shipments; 2016-2017, 84 FR 38002, 38003 (August 5, 2019).

Consistent with Commerce's assessment practice in non-market economy cases, for the companies which Commerce determined had no shipments of the subject merchandise, any suspended entries made under those exporters' case numbers (i.e., at the exporters' rates) will be liquidated at the China-wide rate.¹⁷

¹⁷ For a full discussion of this practice, see Assessment Notice.

Cash Deposit Requirements

The following cash deposit requirements will be effective upon publication of these final results for shipments of the subject merchandise from China entered, or withdrawn from warehouse, for consumption on or after the publication date, as provided by sections 751(a)(2)(C) of the Act: (1) For companies which were found eligible for a separate rate in this review, the cash deposit rate will be zero; (2) for previously investigated or reviewed Chinese and non-Chinese exporters that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These cash deposit requirements, when imposed, shall remain in effect until further notice.

Reimbursement of Duties

This notice also serves as a reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Orders

This notice also serves as a reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a sanctionable violation.

This determination is issued and published in accordance with sections 751(a) and 777(i)(1) of the Act and 19 CFR 351.221(b)(5).

Dated: October 22, 2021.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Changes to the Preliminary Results

V. Discussion of the Issues

General Issues

Comment 1: The Separate Rate

Senmao Issues

Comment 2: Deduction of Irrecoverable Value-Added Tax (VAT)

Non-Selected Company Issues

Comment 3: Inclusion of Fine Furniture in the Current and Future Administrative Reviews

Comment 4: Kember's Untimely-Filed Supplemental Questionnaire Response

VI. Recommendation

Appendix II

No Shipments

Anhui Longhua Bamboo Product Co., Ltd.

Baroque Timber Industries (Zhongshan) Co., Ltd.

Benxi Flooring Factory (General Partnership)

Dalian Jaenmaken Wood Industry Co., Ltd.

Dalian Shengyu Science And Technology Development Co., Ltd.

Dalian T-Boom Wood Products Co., Ltd.

Dunhua City Dexin Wood Industry Co., Ltd.

Dunhua City Jisen Wood Industry Co., Ltd.

Fine Furniture (Fine Furniture (Shanghai) Limited and Double F Limited)

Innomaster Home (Zhongshan) Co., Ltd.

Jiangsu Yuhui International Trade Co., Ltd.

Linyi Anying Wood Co., Ltd.

Power Dekor Group Co., Ltd.

Shandong Longteng Wood Co., Ltd.

Yekalon Industry Inc.

Yingyi-Nature (Kunshan) Wood Industry Co., Ltd.

Zhejiang Biyork Wood Co., Ltd.

Zhejiang Shiyou Timber Co., Ltd.

Zhejiang Shuimojiangnan New Material Technology Co., Ltd.

Zhejiang Simite Wooden Co., Ltd.

Appendix III

China-Wide Entity

Anhui Boya Bamboo & Wood Products Co., Ltd.

Anhui Yaolong Bamboo & Wood Products Co. Ltd.

Armstrong Wood Products (Kunshan) Co., Ltd.¹⁸

¹⁸ These results apply only to entries where Armstrong Wood Products (Kunshan) Co., Ltd. was the exporter but not the producer of subject merchandise.

Armstrong World Industries Inc.

Changzhou Hawd Flooring Co., Ltd.

Chinafloors Timber (China) Co., Ltd.

Dalian Dajen Wood Co., Ltd.

Dalian Guhua Wooden Product Co., Ltd.

Dalian Huade Wood Product Co., Ltd.

Dalian Huilong Wooden Products Co., Ltd.

Dalian Qianqiu Wooden Product Co., Ltd., Fusong Jinlong Wooden Group Co., Ltd., Fusong Jinqiu Wooden Product Co., Ltd., and Fusong Qianqiu Wooden Product Co., Ltd. (collectively, Jinlong)

Guangzhou Homebon Timber Manufacturing Co., Ltd.

Guangzhou Panyu Kangda Board Co., Ltd.

Guangzhou Panyu Southern Star Co., Ltd.

Hangzhou Hanje Tec Company Limited

Hangzhou Zhengtian Industrial Co., Ltd.

Hunchun Forest Wolf Wooden Industry Co., Ltd.

Jiafeng Wood (Suzhou) Co., Ltd.

Jilin Xinyuan Wooden Industry Co., Ltd.

Karly Wood Product Limited.

Kember Flooring, Inc. (a.k.a. Kember Hardwood Flooring, Inc.)

Linyi Bonn Flooring Manufacturing Co., Ltd.

Mudanjiang Bosen Wood Industry Co., Ltd.

Nakahiro Jyou Sei Furniture (Dalian) Co., Ltd.

Omni Arbor Solution Co., Ltd.

Power Dekor North America Inc.

Shanghai Lairunde Wood Co., Ltd.

Shanghaifloor Timber (Shanghai) Co., Ltd.

Shenyang Haobainian Wooden Co., Ltd.

Shenzhenshi Huanwei Woods Co., Ltd.

Xiamen Yung De Ornament Co., Ltd.

Xuzhou Antop International Trade Co., Ltd.

Xuzhou Shenghe Wood Co., Ltd.

Zhejiang Fudeli Timber Industry Co., Ltd

Zhejiang Jiechen Wood Industry Co., Ltd.

Appendix IV

Non-Selected Companies Under Review Receiving a Separate Rate

A&W (Shanghai) Woods Co., Ltd.

Arte Mundi (Shanghai) Aesthetic Home Furnishings Co., Ltd. (successor-in-interest to Scholar Home (Shanghai) New Material Co., Ltd.)

Benxi Wood Company

Dalian Jiahong Wood Industry Co., Ltd.

Dalian Kemian Wood Industry Co., Ltd.

Dalian Penghong Floor Products Co., Ltd./Dalian Shumaike Floor Manufacturing Co., Ltd.

Dongtai Fuan Universal Dynamics, LLC

Dun Hua Sen Tai Wood Co., Ltd.

Dunhua City Hongyuan Wood Industry Co., Ltd.

Dunhua Shengda Wood Industry Co., Ltd

Hailin Linjing Wooden Products Co., Ltd.

Hunchun Xingjia Wooden Flooring Inc.

Huzhou Chenghang Wood Co., Ltd

Huzhou Fulinmen Imp. & Exp. Co., Ltd.

Huzhou Jesonwood Co., Ltd.

Huzhou Sunergy World Trade Co., Ltd.

Jiangsu Guyu International Trading Co., Ltd

Jiangsu Keri Wood Co., Ltd.

Jiangsu Mingle Flooring Co., Ltd

Jiangsu Simba Flooring Co., Ltd.

Jiashan HuiJiaLe Decoration Material Co., Ltd.

Jiashan On-Line Lumber Co., Ltd.

Jiaxing Hengtong Wood Co., Ltd.

Kemian Wood Industry (Kunshan) Co., Ltd.

Kingman Floors Co., Ltd.

Linyi Youyou Wood Co., Ltd.

Metropolitan Hardwood Floors, Inc.

Pinge Timber Manufacturing (Zhejiang) Co., Ltd.

Sino-Maple (Jiangsu) Co., Ltd.

Suzhou Dongda Wood Co., Ltd.

Tongxiang Jisheng Import and Export Co., Ltd.

Yihua Lifestyle Technology Co., Ltd. (successor-in-interest to Guangdong Yihua Timber Industry Co., Ltd.)

Zhejiang Dadongwu Greenhome Wood Co., Ltd.

Zhejiang Fuerjia Wooden Co., Ltd

Zhejiang Longsen Lumbering Co., Ltd.

[FR Doc. 2021-23561 Filed 10-28-21; 8:45 am]

BILLING CODE 3510-DS-P